DEPARTMENT OF HOMELAND SECURITY

Federal Emergency Management Agency

[Internal Agency Docket No. FEMA-4117-DR; Docket ID FEMA-2013-0001]

Oklahoma; Amendment No. 1 to Notice of a Major Disaster Declaration

AGENCY: Federal Emergency Management Agency, DHS.

ACTION: Notice.

SUMMARY: This notice amends the notice of a major disaster for the State of Oklahoma (FEMA-4117-DR), dated May 20, 2013, and related determinations.

DATES: Effective Date: May 21, 2013.

FOR FURTHER INFORMATION CONTACT: Dean Webster, Office of Response and Recovery, Federal Emergency Management Agency, 500 C Street SW., Washington, DC 20472, (202) 646-2833.

SUPPLEMENTARY INFORMATION: Notice is hereby given that, in a letter dated May 21, 2013, the President amended the cost-sharing arrangements regarding Federal funds provided under the authority of the Robert T. Stafford Disaster Relief and Emergency Assistance Act, 42 U.S.C. 5121 et seq. (the “Stafford Act”), as follows:

I authorize as a pilot project: 1) Eligible debris removal completed within thirty (30) days from the start of the incident period will be subject to an eighty-five percent (85%) Federal cost share; 2) Eligible debris removal completed between thirty-one (31) and ninety (90) days from the start of the incident period will be subject to an eighty percent (80%) Federal cost share; 3) Eligible debris removal completed during the authorized period of performance and after ninety (90) days of the start of the incident period will be subject to the standard seventy-five percent (75%) Federal cost share; and 4) For debris planning, an increase of two percent (2%) to the applicable Federal cost share for up to ninety (90) days from the start of the incident period for a debris removal subgrant when the subgrantee has adopted an acceptable debris management plan prior to the disaster event.

Eligible debris removal for the pilot is limited to the reimbursement of work performed by eligible applicants. Debris removed through Direct Federal Assistance is not eligible for the pilot cost share adjustments. Further, under this pilot program, FEMA shall obtain any applicable private insurance payments for debris removal to reimburse Federal costs to the extent permitted by law.

(The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households in Presidentially Declared Disaster Areas; 97.049, Presidentially Declared Disaster Assistance—Disaster Housing Operations for Individuals and Households; 97.050, Presidentially Declared Disaster Assistance to Individuals and Households—Other Needs; 97.036, Disaster Grants—Public Assistance (Presidentially Declared Disasters); 97.039, Hazard Mitigation Grant.

W. Craig Fugate,
Administrator, Federal Emergency Management Agency.

[FR Doc. 2013-12791 Filed 5-29-13; 8:45 am]

BILLING CODE 9111-23-P